Proclamation 9768 of July 13, 2018

Made in America Day and Made in America Week, 2018

By the President of the United States of America

A Proclamation

On Made in America Day and during Made in America Week, we celebrate the importance of American manufacturing, construction, agriculture, mining, and entrepreneurship to our Nation's prosperity and economic vitality. Made in America products represent the global gold standard for quality, innovation, and craftsmanship and the output of a highly skilled workforce that is second to none.

American workers and job creators sustain and inspire the American Dream, while enhancing both our economic and national security, which are inextricably linked.

For far too long, the working men and women of our country have been ignored. That era is over.

Last year, I signed into law historic tax cuts and reform, which have unleashed a flow of investment and jobs back into America from overseas. Optimism among American manufacturers has hit all-time highs as American businesses across the country have paid bonuses, increased wages, and boosted contributions to employee retirement plans.

My Administration is also delivering on its promise to cut unnecessary and burdensome regulations that hamper economic growth.

I have consistently pledged to the American people that I will reinvigorate our workforce by instituting fair and reciprocal trade practices so that companies can compete, thrive, and grow. My trade agenda is focused on defending our workers and businesses from unfair trade practices and on removing barriers to our products and services, so that our Nation can compete and so that “buy American and hire American” once again becomes the best option in an increasingly international and competitive market. Accordingly, I will continue to negotiate and modernize our trade agreements to bring about free, fair, and reciprocal trade and thereby ensure open, fair, and competitive markets for America's products and services.

Our Nation continues to thrive due to the determination, imagination, skill, creativity, and excellence of our people. American industry reflects these qualities and evokes patriotism, pride, and the hope of a bright and prosperous future. We salute our Nation's workers, job creators, and inventors, and we pledge to continue creating an environment that makes the United States the most attractive place in the world to do business.

NOW, THEREFORE, I, DONALD J. TRUMP, President of the United States of America, by virtue of the authority vested in me by the Constitution and the laws of the United States, do hereby proclaim July 17, 2018, as Made in America Day and this week, July 15 through July 21, 2018, as Made in America Week. I call upon all Americans to pay special tribute to the builders, the ranchers, the crafters, the entrepreneurs, and all those who work with their hands every day to make America great.

IN WITNESS WHEREOF, I have hereunto set my hand this thirteenth day of July, in the year of our Lord two thousand eighteen, and of the Independence of the United States of America the two hundred and forty-third.

[FR Doc. 2018-15510

Filed 7-17-18; 11:15 am]

Billing code 3295-F8-P